DEPARTMENT OF EDUCATION

34 CFR Chapter III

[CFDA Number: 84.133B-1.]

Proposed Priority—National Institute on Disability and Rehabilitation Research—Rehabilitation Research and Training Center on Research and Capacity Building for Minority Entities

AGENCY: Office of Special Education and Rehabilitative Services, Department of Education.

ACTION: Proposed priority.

SUMMARY: The Assistant Secretary for Special Education and Rehabilitative Services proposes a priority for the Disability and Rehabilitation Research Projects and Centers Program administered by the National Institute on Disability and Rehabilitation Research (NIDRR). Specifically, this notice proposes a priority for a Rehabilitation Research and Training Center (RRTC) on Research and Capacity Building for Minority Entities. The Assistant Secretary may use this priority for competitions in fiscal year (FY) 2013 and later years. We take this action to focus research attention on areas of national need. We intend this priority to improve employment outcomes for individuals with disabilities.

DATES: We must receive your comments on or before April 5, 2013.

ADDRESSES: Address all comments about this notice to Marlene Spencer, U.S. Department of Education, 400 Maryland Avenue SW., room 5133, Potomac Center Plaza (PCP), Washington, DC 20202-2700.

If you prefer to send your comments by email, use the following address: marlene.spencer@ed.gov. You must include “Proposed Priority—RRTC on Research and Capacity Building for Minority Entities” in the subject line of your electronic message.

FOR FURTHER INFORMATION CONTACT: Marlene Spencer. Telephone: (202) 245-7532 or by email: marlene.spencer@ed.gov.

If you use a telecommunications device for the deaf (TDD) or a text telephone (TTY), call the Federal Relay Service (FRS), toll free, at 1-800-877-8339.

SUPPLEMENTARY INFORMATION: This notice of proposed priority is in concert with NIDRR's currently approved Long-Range Plan (Plan). The Plan, which was published in the Federal Register on February 15, 2006 (71 FR 8165), can be accessed on the Internet at the following site: www.ed.gov/about/offices/list/osers/nidrr/policy.html.

Through the implementation of the Plan, NIDRR seeks to: (1) Improve the quality and utility of disability and rehabilitation research; (2) foster an exchange of expertise, information, and training methods to facilitate the advancement of knowledge and understanding of the unique needs of traditionally underserved populations; (3) determine best strategies and programs to improve rehabilitation outcomes for underserved populations; (4) identify research gaps; (5) identify mechanisms for integrating research and practice; and (6) disseminate findings.

This notice proposes a priority that NIDRR intends to use for RRTC competitions in FY 2013 and possibly later years. However, nothing precludes NIDRR from publishing additional priorities, if needed. Furthermore, NIDRR is under no obligation to make an award for this priority. The decision to make an award will be based on the quality of applications received and available funding.

Invitation to Comment: We invite you to submit comments regarding this notice. To ensure that your comments have maximum effect in developing the notice of final priority, we urge you to identify clearly the specific topic that each comment addresses.

We invite you to assist us in complying with the specific requirements of Executive Orders 12866 and 13563 and their overall requirement of reducing regulatory burden that might result from this proposed priority. Please let us know of any further ways we could reduce potential costs or increase potential benefits while preserving the effective and efficient administration of the program.

During and after the comment period, you may inspect all public comments about this notice in room 5133, 550 12th Street SW., PCP, Washington, DC, between the hours of 8:30 a.m. and 4:00 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Disability and Rehabilitation Research Projects and Centers Program is to plan and conduct research, demonstration projects, training, and related activities, including international activities, to develop methods, procedures, and rehabilitation technology that maximize the full inclusion and integration into society, employment, independent living, family support, and economic and social self-sufficiency of individuals with disabilities, especially individuals with the most severe disabilities; and to improve the effectiveness of services authorized under the Rehabilitation Act of 1973, as amended (Rehabilitation Act).

RRTC Program

The purpose of the RRTCs, which are funded through the Disability and Rehabilitation Research Projects and Centers Program, is to improve the effectiveness of services authorized under the Rehabilitation Act, through advanced research, training, technical assistance, and dissemination activities in general problem areas, as specified by NIDRR. Such activities are designed to benefit rehabilitation service providers, individuals with disabilities, and the family members or other authorized representatives of individuals with disabilities. Additional information on the RRTC program can be found at: www.ed.gov/rschstat/research/pubs/res-program.html#RRTC.

Statutory and Regulatory Requirements of RRTCs RRTCs must—

• Carry out coordinated advanced programs of rehabilitation research;

• Provide training, including graduate, pre-service, and in-service training, to help rehabilitation personnel more effectively provide rehabilitation services to individuals with disabilities;

• Provide technical assistance to individuals with disabilities, their representatives, providers, and other interested parties;

• Disseminate informational materials to individuals with disabilities, their representatives, providers, and other interested parties; and

• Serve as centers of national excellence in rehabilitation research for individuals with disabilities, their representatives, providers, and other interested parties.

Program Authority: 29 U.S.C. 762(g) and 764(b)(2).

Applicable Program Regulations: 34 CFR part 350.

Proposed Priority

This notice contains one proposed priority.

RRTC on Research and Capacity Building for Minority Entities.

Background

There are approximately 19.6 million people between the ages of 18 and 64 with a disability in the United States. Among people in the United States between the ages of 18 and 64, 10.4 percent of non-Hispanic Whites, 7.9 percent of Hispanics, and 4 percent of Asians reported having a disability in 2011, as compared with 13.6 percent of Blacks or African Americans, and 17.1 percent of American Indians or Alaskan Natives (Erickson et al., 2012). Not only do some racial and ethnic populations experience higher rates of disability than non-Hispanic Whites, but there are other examples of disparate outcomes in various life domains for racial and ethnic populations when compared to non-Hispanic Whites. For example, adult Hispanics, American Indians or Alaska Natives, and Blacks or African Americans with disabilities are significantly more likely to report fair or poor health (55.2 percent, 50.5 percent, and 46.6 percent, respectively) compared to non-Hispanic White and Asian individuals with disabilities (36.9 percent and 24.9 percent, respectively) (Wolf et al., 2008). Blacks or African Americans and Hispanics with disabilities have significantly higher rates of unemployment (23.5 percent and 20.3 percent, respectively), relative to non-Hispanic White individuals with disabilities (13.7 percent) (Bureau of Labor Statistics, 2011).

The disparities in outcomes provided the basis for section 21 of the Rehabilitation Act (29 U.S.C. 718). Section 21 requires NIDRR to reserve a portion of its funds each year for certain outreach activities, which may include making awards to minority entities and Indian tribes to conduct research, training, and technical assistance or related activities to improve services for individuals with disabilities from traditionally underserved racial and ethnic minority populations. The requirements in section 21 are aimed at helping individuals with disabilities from minority backgrounds and communities overcome the numerous challenges they face. These challenges include language barriers; cultural traditions and attitudes about disability; limited numbers of professional rehabilitation specialists and researchers from minority backgrounds; higher rates of poverty and lower rates of formal education; physical, social, and informational isolation from mainstream disability and rehabilitation agencies; and cultural identity and cross-cultural mistrust, among others (Balcazar et al., 2010). The section 21 requirements are aligned with NIDRR's commitment to develop new knowledge, interventions, and products that lead to improved outcomes for all individuals with disabilities, as well as to build the research capacity of entities with close cultural and social connections to individuals with disabilities from minority backgrounds.

Minority entities are under-represented in the field of disability and rehabilitation research, and, specifically, historically Black colleges or universities (HBCUs) are under-represented among NIDRR's grantees (Moore et al., 2012). A minority entity, as defined in section 21 of the Rehabilitation Act (29 U.S.C. 718), is a historically Black college or university, a Hispanic-serving institution of higher education, an American Indian tribal college or university, or another institution of higher education whose minority student enrollment is at least 50 percent. Efforts are needed to build the capacity of HBCUs and other minority entities to conduct disability and rehabilitation research and develop rehabilitation professionals to address the ongoing challenges of providing equal opportunity and benefit to individuals with disabilities from traditionally underserved minority backgrounds and communities (Moore et al., 2012).

References

Balcazar, F.E., Suarez-Balcazar, Y., Taylor-Ritzler, T., & Keys, C. (2010). Race, Culture, and Disability: Rehabilitation, Science, and Practice. Sudbury, MA: Jones & Bartlett.

Bureau of Labor Statistics, U.S. Department of Labor. Persons with a Disability: Labor Force Characteristics-2011. Retrieved July 19, 2012, from: www.bls.gov/news.release/pdf/disabl.pdf.

Erickson, W., Lee, C., & von Schrader, S. (2012). Disability Statistics from the 2010 American Community Survey. Ithaca, NY: Cornell University Rehabilitation Research and Training Center on Disability Demographics and Statistics. Retrieved July 23, 2012, from: www.disabilitystatistics.org.

Moore, C.L., Johnson, J.E., Manyibe, E.O., Washington, A.L., Uchegbu, N., & Eugene-Cross, K. (2012). Barriers to the Participation of Historically Black Colleges and Universities in the Federal Disability and Rehabilitation Research and Development Enterprise: The Researchers' Perspective. Oklahoma City: Department of Rehabilitation Counseling and Disability Studies/Langston University.

Wolf, L.A., Armour, B.S., & Campbell, V.A. (2008). Racial/Ethnic Disparities in Self-Rated Health Status among Adults with and without Disabilities. Retrieved from cdc.gov/mmwr/preview/mmwrhtml/mm5739a1.htm.

Proposed Priority

The Assistant Secretary for Special Education and Rehabilitative Services proposes a priority to establish a Rehabilitation Research and Training Center (RRTC) on Research and Capacity Building for Minority Entities. One purpose of the RRTC is to generate new knowledge about the experiences and outcomes of individuals with disabilities from racial and ethnic minority backgrounds that can be used as a foundation for developing interventions to improve those outcomes. Another purpose of the RRTC is to enhance rehabilitation research capacity at minority entities, as defined in section 21 of the Rehabilitation Act (29 U.S.C 718). The RRTC must contribute to these outcomes by:

(a) Conducting research that examines experiences and outcomes of individuals with disabilities from traditionally underserved racial and ethnic populations. Applicants must focus their research activities on topics that fall under at least one of the following major life domains identified in NIDRR's Final Long-Range Plan for FY 2005-2009: (1) Employment, (2) Participation and Community Living, or (3) Health and Function.

(b) Conducting research on the feasibility and potential effectiveness of methods and models for enhancing disability and rehabilitation research capacity and infrastructure at minority entities.

(c) Serving as a national resource center for minority entities that are seeking to develop their research infrastructure, and to enhance their capacity to engage in disability and rehabilitation research. The RRTC must provide technical assistance and training to minority entities in order to develop their institutional research infrastructure and enhance their capacity to conduct disability and rehabilitation research.

(d) Involving individuals with disabilities from traditionally underserved racial and ethnic populations in planning and implementing the RRTC's activities and evaluating its work.

(e) Providing outreach and training that enhances awareness of NIDRR and its research programs among minority entities.

(f) Developing and implementing a strategy for disseminating research, training, and technical assistance products developed by the RRTC. The RRTC's dissemination strategy must include an online information dissemination system that meets a government- or industry-recognized standard for accessibility by individuals with disabilities.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority: We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

We have also reviewed this regulatory action under Executive Order 13563, which supplements and explicitly reaffirms the principles, structures, and definitions governing regulatory review established in Executive Order 12866. To the extent permitted by law, Executive Order 13563 requires that an agency—

(1) Propose or adopt regulations only on a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this proposed priority only on a reasoned determination that its benefits would justify its costs. In choosing among alternative regulatory approaches, we selected those approaches that would maximize net benefits. Based on the analysis that follows, the Department believes that this proposed priority is consistent with the principles in Executive Order 13563.

We also have determined that this regulatory action would not unduly interfere with State, local, and tribal governments in the exercise of their governmental functions.

In accordance with both Executive orders, the Department has assessed the potential costs and benefits of this regulatory action. The potential costs are those resulting from statutory requirements and those we have determined as necessary for administering the Department's programs and activities.

The benefits of the Disability and Rehabilitation Research Projects and Centers Programs have been well established over the years. Projects similar to the new RTTC have been completed successfully, and the new RTTC, established consistently with this priority, is expected to improve the lives of individuals with disabilities from minority backgrounds; generate through research and development, disseminate, and promote the use of new information that will improve the outcomes for individuals with disabilities; and increase the capacity of minority entities to conduct disability and rehabilitation research and develop rehabilitation professionals.

Intergovernmental Review: This program is not subject to Executive Order 12372 and the regulations in 34 CFR part 79.

Accessible Format: Individuals with disabilities can obtain this document in an accessible format (e.g., braille, large print, audiotape, or compact disc) by contacting the Grants and Contracts Services Team, U.S. Department of Education, 400 Maryland Avenue SW., Room 5075, PCP, Washington, DC 20202-2550. Telephone: (202) 245-7363. If you use a TDD or TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: March 1, 2013.
Michael K. Yudin,
Acting Assistant Secretary for Special Education and Rehabilitative Services.

[FR Doc. 2013-05225 Filed 3-5-13; 8:45 am]

BILLING CODE 4000-01-P